DEPARTMENT OF COMMERCE

International Trade Administration

[A-570-836]

Glycine From the People's Republic of China: Continuation of the Antidumping Duty Order

AGENCY: Enforcement and Compliance, International Trade Administration, Department of Commerce.

SUMMARY: As a result of the determinations by the U.S. Department of Commerce (Commerce) and the U.S. International Trade Commission (ITC) that revocation of the antidumping duty (AD) order on glycine from the People's Republic of China (China) would likely lead to continuation or recurrence of dumping and material injury to an industry in the United States, Commerce is publishing a notice of continuation of the AD order.

DATES: Applicable September 14, 2022.

FOR FURTHER INFORMATION CONTACT: Harrison Tanchuck, AD/CVD Operations, Office VI, Enforcement and Compliance, International Trade Administration, U.S. Department of Commerce, 1401 Constitution Avenue NW, Washington, DC 20230; telephone: (202) 482-7421.

SUPPLEMENTARY INFORMATION:

Background

On March 29, 1995, Commerce published in the Federal Register the AD order on glycine from China.¹ On January 3, 2022, Commerce published a notice of initiation of the fifth sunset review of the Order, pursuant to section 751(c) of the Tariff Act of 1930, as amended (the Act).² Commerce conducted an expedited (120-day) sunset review of the Order, pursuant to section 751(c)(3)(B) of the Act and 19 CFR 351.218(e)(1)(ii)(C)(2).

¹ See Antidumping Duty Order: Glycine from the People's Republic of China, 60 FR 16116 (March 29, 1995) (Order).

² See Initiation of Five-Year (Sunset) Reviews, 87 FR 76 (January 3, 2022).

As a result of its review, pursuant to sections 751(c)(1) and 752(c) of the Act, Commerce determined that revocation of the Order on glycine from China would likely lead to continuation or recurrence of dumping. Commerce, therefore, notified the ITC of the magnitude of the margins of dumping likely to prevail should the Order be revoked.³

³ See Glycine from the People's Republic of China: Final Results of the Expedited Sunset Review of the Antidumping Duty Order, 87 FR 25446 (April 25, 2022), and accompanying Issues and Decision Memorandum.

On September 2, 2022, the ITC published its determination, pursuant to sections 751(c) and 752(a) of the Act, that revocation of the Order would likely lead to continuation or recurrence of material injury to an industry in the United States within a reasonably foreseeable time.⁴

⁴ See Glycine from the People's Republic of China, 87 FR 54263 (September 2, 2022).

Scope of the Order

The product covered by the Order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).⁵ Although the HTSUS subheading is provided for convenience and customs purposes, the written description of the merchandise under the Order is dispositive.

⁵ In separate scope rulings, Commerce determined that: (a) D(-)Phenylglycine Ethyl Dane Salt is outside the scope of the Order; and (b) Chinese glycine exported from India remains the same class or kind of merchandise as the China-origin glycine imported into India. See Notice of Scope Rulings and Anticircumvention Inquiries, 62 FR 62288 (November 21, 1997); and Glycine from the People's Republic of China: Final Partial Affirmative Determination of Circumvention of the Antidumping Duty Order, 77 FR 73426 (December 10, 2012), respectively.

Continuation of the Order

As a result of the determinations by Commerce and the ITC that revocation of the Order would likely lead to continuation or recurrence of dumping as well as material injury to an industry in the United States, pursuant to section 751(d)(2) of the Act and 19 CFR 351.218(a), Commerce hereby orders the continuation of the Order.

U.S. Customs and Border Protection will continue to collect AD cash deposits at the rates in effect at the time of entry for all imports of subject merchandise. The effective date of continuation of the Order will be the date of publication in the Federal Register of this notice of continuation. Pursuant to section 751(c)(2) of the Act and 19 CFR 351.218(c)(2), Commerce intends to initiate the next five-year (sunset) review of the Order no later than 30 days prior to the fifth anniversary of the effective date of continuation.

Administrative Protective Order

This notice also serves as the only reminder to parties subject to an administrative protective order (APO) of their responsibility concerning the return, destruction, or conversion to judicial protective order of proprietary information disclosed under APO in accordance with 19 CFR 351.305(a)(3). Failure to comply is a violation of the APO which may be subject to sanctions.

Notification to Interested Parties

This five-year sunset review and this notice are in accordance with section 751I and (d)(2) of the Act and published pursuant to section 777(i)(1) of the Act and 19 CFR 351.218(f)(4).

Dated: September 8, 2022.
Lisa W. Wang,
Assistant Secretary for Enforcement and Compliance.

[FR Doc. 2022-19857 Filed 9-13-22; 8:45 am]

BILLING CODE 3510-DS-P